ENVIRONMENTAL PROTECTION AGENCY

40 CFR Part 300

[FRL-7385-1]

National Oil and Hazardous Substance Pollution Contingency Plan; National Priorities List Update

AGENCY: Environmental Protection Agency (EPA).

ACTION: Notice of Deletion of the Pinette's Salvage Yard Superfund Site from the National Priorities List.

SUMMARY: EPA—New England announces the deletion of the Pinette's Salvage Yard Superfund Site located in Washburn, Aroostook County, Maine from the National Priorities List (NPL). The NPL, promulgated pursuant to section 105 of the Comprehensive Environmental Response, Compensation, and Liability Act of 1980, as amended (CERCLA), is found at Appendix B of 40 CFR part 300 of the National Oil and Hazardous Substances Pollution Contingency Plan (NCP). EPA and the State of Maine, through the Department of Environmental Protection, have determined that all appropriate response actions under CERCLA have been completed and the site poses no significant threat to human health or the environment. However, this deletion does not preclude future actions under Superfund.

EFFECTIVE DATE: September 30, 2002.

FOR FURTHER INFORMATION CONTACT: Almerinda Silva, Remedial Project Manager, U.S. EPA, One Congress Street, Suite 1100, (HBT), Boston, Massachusetts 02114-2023, (617) 918-1246 or 1-800-252-3402 x-81246-toll-free.

SUPPLEMENTARY INFORMATION: The site to be deleted from the NPL is the Pinette's Salvage Yard Superfund Site in Washburn, Aroostook County, Maine.

A Notice of Intent to Delete for this site was published in the Federal Register on Wednesday August 28, 2002 (67 FR 55187). The closing date for comments on the Notice of Intent to Delete is Friday, September 27, 2002. EPA does not expect to receive any comments, therefore, a Responsiveness Summary has not been prepared. If any substantive comments are received EPA will publish a document in the Federal Register addressing those comments and, if necessary, withdrawing the site deletion.

EPA identifies sites that appear to present a significant risk to public health, welfare, or the environment and it maintains the NPL as the list of those sites. Any site deleted from the NPL remains eligible for Fund-financed remedial actions in the unlikely event that conditions at the site warrant such action. Section 300.425(e)(3) of the NCP states that Fund-financed actions may be taken at sites deleted from the NPL. Deletion of a site from the NPL does not affect responsible party liability or impede agency efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Robert W. Varney,
Regional Administrator, U.S. EPA—New England.

For reasons set out in the preamble, 40 CFR part 300 is amended as follows:

PART 300—[AMENDED]

1. The authority citation for part 300 continues to read as follows:

Authority: 42 U.S.C. 9601-9657; 33 U.S.C. 1321(c)(2); E.O. 12777, 56 FR 54757, 3 CFR, 1991 Comp., p.351; E.O. 12580, 52 FR 2923, 3 CFR, 1987 Comp., p. 193.

Appendix B—[Amended]

2. Table 1 of Appendix B to part 300 is amended by removing the entry for Pinette's Salvage Yard, Washburn, ME.

[FR Doc. 02-24639 Filed 9-27-02; 8:45 am]

BILLING CODE 6560-50-P